DEPARTMENT OF THE INTERIOR

Bureau of Reclamation

Privacy Act of 1974, as Amended; System of Records

AGENCY: Bureau of Reclamation, Interior.

ACTION: Notice of a new system of records and proposal to exempt the system from certain Privacy Act requirements.

SUMMARY: The Department of the Interior (DOI) is issuing public notice of its intent to establish a system of records in its inventory of records systems subject to the Privacy Act of 1974 (5 U.S.C. 552a). The Department is also issuing notice of its intent to exempt the system from specific Privacy Act requirements, as described within the section titled “Exemptions claimed for the system.” The system of records is called Interior—WBR-50, Reclamation Law Enforcement Management Information System (RLEMIS).

DATES: Comments received on or before December 1, 2008 will be considered.

ADDRESSES: Comments on this proposed system may be submitted to the Bureau of Reclamation, Attention: Casey Snyder (84-21300), Denver Federal Center, Building 67, or P.O. Box 25007, Denver, CO 80225. Comments may also be submitted by e-mail to csnyder@do.usbr.gov.

FOR FURTHER INFORMATION CONTACT: Steven J. Jackson, Threat Manager, Office of Law Enforcement, Bureau of Reclamation, 303-445-2883.

SUPPLEMENTARY INFORMATION: The primary purpose of the system is for the Bureau of Reclamation's (Reclamation) Office of Security, Safety, and Law Enforcement, Office of Law Enforcement to maintain a database in both paper and electronic media relevant to information received and collected as part of investigations, incidents, and suspicious activities involving Reclamation.

Reclamation has taken steps to minimize any impacts on an individual's privacy and to minimize the amount of personal data contained within the system. All information goes through a hierarchical review process to ensure that only relevant data is entered into the system.

The system will be effective as proposed at the end of the comment period unless comments are received which would require a contrary determination. Reclamation will publish a revised notice if changes are made based upon a review of comments received.

Before including your address, phone number, e-mail address, or other personal identifying information in your comment, you should be aware that your entire comment—including your personal identifying information—may be made publicly available at any time. While you can ask us in your comment to withhold your personal identifying information from public review, we cannot guarantee that we will be able to do so.

A copy of the system notice for Interior—WBR-50, Reclamation Law Enforcement Management Information System (RLEMIS), follows.

Dated: September 15, 2008
Dave Achterberg,
Director, Security, Safety and Law Enforcement, Bureau of Reclamation, Denver, Colorado.

INTERIOR—WBR-50

SYSTEM NAME:

Reclamation Law Enforcement Management Information System (RLEMIS).

SYSTEM LOCATION:

Bureau of Reclamation (Reclamation)/ U.S. Fish and Wildlife Service, Offices of Law Enforcement, 755 Parfet, Suite 230, Lakewood, Colorado 80225.

CATEGORIES OF INDIVIDUALS COVERED BY THE SYSTEM:

The categories of individuals covered by the system are: Law enforcement personnel, official foreign visitors, potential and known subjects of incidents and suspicious activities.

CATEGORIES OF RECORDS IN THE SYSTEM:

Records maintained on criminal activity and intelligence information covered by the system include, but are not limited to, the following data fields: Subject name; personal identifiers (such as Social Security number, date of birth, passport number); physical characteristics (such as sex, eye color, weight); contact information (such as address, telephone number, employer); and information about the incident or investigation (such as case agent, source reliability, activity date, narrative, disposition, vehicle information, impacted Reclamation facilities).

AUTHORITY FOR MAINTENANCE OF THE SYSTEM:

5 U.S.C. 301; 40 U.S.C. 486; 44 U.S.C. 3101; Public Law 107-69; 43 U.S.C. 373b and 373c; Presidential Memorandum on Upgrading Security at Federal Facilities, June 28, 1995; Homeland Security Presidential Directives, HSPD 7 and 12; USA PATRIOT ACT of 2001, USA PATRIOT Improvement Act of 2005, E.O. 1233, as amended, E.O. 13383, DHS MOU Concerning Information Sharing, Homeland Security Act of 2002, National Security Act of 1947 as amended, Intelligence Reform and Terrorism Prevention Act of 2004 and 28 CFR part 23.

PURPOSE(S):

The primary purpose of the system is to ensure the safety and security of Reclamation's employees, the general public, as well as Reclamation facilities, lands, waters, and physical and cyber infrastructure. RLEMIS collects, stores, and allows for retrieval of historical and current information on all incidents/investigations reported at Reclamation facilities, and maintains a record of official foreign visitors to Reclamation facilities. The database maintained is relevant to information received by, and collected as part of, investigations and inquiries conducted by Reclamation's Office of Law Enforcement. RLEMIS is a secure system which is completely independent from other systems.

ROUTINE USES OF RECORDS MAINTAINED IN THE SYSTEM, INCLUDING CATEGORIES OF USERS AND THE PURPOSES OF SUCH USES:

The primary use of records stored in RLEMIS is for investigative/analytical purposes. RLEMIS ensures accountability related to the systematic management, analysis, and reporting of information related to law enforcement. This provides Reclamation's Office of Law Enforcement with an efficient law enforcement reporting and intelligence system.

RLEMIS will enable authorized Reclamation personnel to:

• Capture, integrate, and share law enforcement and related information from multiple sources.

• Meet reporting requirements.

• Assist with analysis and prioritization of protection efforts.

DISCLOSURES:

DISCLOSURES OUTSIDE THE DEPARTMENT OF THE INTERIOR MAY BE MADE WITHOUT THE PERMISSION OF THE SUBJECT OF THE RECORDS IF THE RECORDS WILL BE DISCLOSED:

(1)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry regarding an individual included in the RLEMIS database, or the heir of such individual if the individual is deceased.

(3) To appropriate Federal, State, local, or foreign law enforcement or intelligence agencies responsible for investigating or prosecuting the violation of or for enforcing or implementing a statute, rule, regulation, order or license, when DOI becomes aware of a violation or potential violation of a statute, rule, regulation, order, or license.

(4) To an official of another Federal agency to provide information needed in the performance of official duties related to reconciling or reconstructing data files, in support of the functions for which the records were collected and maintained.

(5) To Federal, State, or local agencies that have requested information relevant or necessary to the hiring, firing, or retention of an employee, contractor, etc., or the issuance of a security clearance, license, contract, grant, or other benefit.

(6) To representatives of the National Archives and Records Administration to conduct records management inspections under the authority of 44 U.S.C. 2903 and 2904.

(7) To State and local governments and tribal organizations to provide information needed in response to court order and/or discovery purposes related to litigation.

(8) To an expert, consultant, or contractor (including employees of the contractor) of DOI that performs, on DOI's behalf, services requiring access to these records.

(9) To appropriate agencies, entities, and persons when:

(a) It is determined that the security or confidentiality of information in the system of records has been compromised; and

(b) DOI has determined that as a result of the suspected or confirmed compromise there is a risk of harm to economic or property interest, identity theft or fraud, or harm to the security or integrity of this system or other systems or programs (whether it is maintained by DOI or another agency or entity) that rely upon the compromised information; and

(c) The disclosure is made to such agencies, entities, and persons who are reasonably necessary to assist in connection with DOI's efforts to respond to the suspected or confirmed compromise and prevent, minimize, or remedy such harm.

(10) Pursuant to 5 U.S.C. 552a(b)(12), records can be disclosed to consumer reporting agencies as they are defined in the Fair Credit Reporting Act.

RELEASE OF INFORMATION:

(a) The release of information under the above circumstances should only occur when it will not:

(i) Interfere with ongoing law enforcement proceedings;

(ii) Risk the health or safety of an individual; or

(iii) Reveal the identity of an informant or witness that has received an explicit assurance of confidentiality from the U.S. Government.

(b) Social Security Numbers should not be released under these circumstances unless the Social Security Number belongs to the individual requester.

POLICIES AND PRACTICES FOR STORING, RETRIEVING, ACCESSING, RETAINING, AND DISPOSING OF RECORDS IN THE SYSTEM:

STORAGE:

Records may be stored both in folders in paper form and in computer systems in electronic form. The main storage for the system will be electronic records contained in the RLEMIS database. The records stored in RLEMIS are maintained on a stand alone server that is provided with physical security and are not retrievable without a username and password. Paper records are stored in locked cabinets in a room requiring both proximity card and pass-code access. After hours, the storage space is locked and alarmed. Law enforcement response is available for both the storage space and server.

RETRIEVABILITY:

Records are retrievable by name, personal identifiers (date of birth, Social Security Number, address, etc.), organization information (name and address), vehicle type and license, incident type and location, case agent, incident/investigation status (open, closed, etc.), date, and foreign visitor trip information (date, citizenship, location, etc.).

SAFEGUARDS:

Records are maintained with safeguards meeting the requirements of 43 CFR 2.51 for manual and computerized records. The records are accessible to Reclamation personnel on a need-to-know basis and to those whose official duties require such access. Disclosure of information through remote terminals is restricted through the use of passwords and username combinations, and sign-on protocols, which are periodically changed. The related Privacy Impact Assessment has been completed on RLEMIS. The Information Security Plan establishes access controls and safeguarded measures to protect the information of individuals. All individuals using the database are required to log off the password protected file server and computers at the end of each day. Manual and electronic records are maintained in conformity with Office of Management and Budget and Departmental Guidelines reflecting the implementation of the Federal Information Security Management Act.

RETENTION AND DISPOSAL:

Records are retained and disposed of according to various law enforcement and security legislation and 28 CFR part 23.

SYSTEM MANAGER(S) AND ADDRESS:

Steven J. Jackson, Threat Manager, Office of Law Enforcement (84-42000), Bureau of Reclamation, P.O. Box 25007, Denver, Colorado 80225-0007.

RECORD SOURCE CATEGORIES:

Incident information is obtained from subjects, complainants, witnesses, official respondents, and investigating officials.

EXEMPTIONS CLAIMED FOR THE SYSTEM:

Under the general exemption authority provided by 5 U.S.C. 552a(j)(2), the DOI has adopted a regulation, 43 CFR 2.79(a), which exempts this system of records from the provisions of 5 U.S.C. 552a. The records and reports contained in RLEMIS are exempted, pursuant to 5 U.S.C. 552a(j)(2), from Privacy Act subsections (c)(3) and (c)(4); (d); (e)(1) through (e)(3), (e)(4)(G) through (e)(4)(I), (e)(5), (e)(8); (f); and (g). This system of records is also exempt from the portions of the regulations in 43 CFR part 2, subpart G, which implement the above 5 U.S.C. 552a subsections.

Reasons for exemptions: Reclamation's RLEMIS systems of records are exempted from the above provisions of the Privacy Act for the following reasons:

(1) 5 U.S.C. 552a(c)(3). This section requires an agency to make the accounting of each disclosure of records available to the individual named in the record upon request. Release of accounting of disclosures would alert the subjects of an investigation to the existence of the investigation and the fact that they are subjects of the investigation. The release of such information to the subjects of an investigation would provide them with significant information concerning the nature of the investigation, and could seriously impede or compromise the investigation, endanger the physical safety of confidential sources, witnesses and their families, and lead to the improper influencing of witnesses, the destruction of evidence, or the fabrication of testimony.

(2) 5 U.S.C. 552a(c)(4); (d); (e)(4)(G) and (e)(4)(H); (f); and (g). Granting access to records in RLEMIS could inform the subject of an investigation of an actual or potential criminal violation of the existence of that investigation, of the nature and scope of the information and evidence obtained, of the identity of confidential sources, witnesses, and law enforcement personnel, and could provide information to enable the subject to avoid detection or apprehension. Granting access to such information could seriously impede or compromise an investigation; endanger the physical safety of confidential sources, witnesses, and law enforcement personnel, as well as their families; lead to the improper influencing of witnesses, the destruction of evidence, or the fabrication of testimony; and disclose investigative techniques and procedures. In addition, granting access to such information could disclose classified, security-sensitive, or confidential information and could constitute an unwarranted invasion of the personal privacy of others.

(3) 5 U.S.C. 552a(e)(1). The application of this provision could impair investigations and law enforcement, because it is not always possible to determine the relevance or necessity of specific information in the early stages of an investigation. Relevance and necessity are often questions of judgment and timing, and it is only after the information is evaluated that the relevance and necessity of such information can be established. In addition, during the course of the investigation, the investigator may obtain information which is incidental to the main purpose of the investigation but which may relate to matters under the investigative jurisdiction of another agency. Such information cannot readily be segregated. Furthermore, during the course of the investigation, an investigator may obtain information concerning the violation of laws outside the scope of the investigator's jurisdiction. In the interest of effective law enforcement, Reclamation investigators should retain this information, since it can aid in establishing patterns of criminal activity and can provide valuable leads for other law enforcement agencies.

(4) 5 U.S.C. 552a(e)(2). The application of this provision could impair investigations and law enforcement by alerting the subject of an investigation of the existence of the investigation, enabling the subject to avoid detection or apprehension, to influence witnesses improperly, to destroy evidence, or to fabricate testimony. In addition, in certain circumstances, the subject of an investigation cannot be required to provide information to investigators, and information must be collected from other sources. Furthermore, it is often necessary to collect information from sources other than the subject of the investigation to verify the accuracy of the evidence collected.

(5) 5 U.S.C. 552a(e)(3). This section requires an agency to inform each person whom it asks to supply information, on a form that can be retained by the person, of the authority which the information is sought and whether disclosure is mandatory or voluntary; of the principal purposes for which the information is intended to be used; of the routine uses which may be made of the information; and the effects on the person, if any, of not providing all or any part of the requested information. The application of this provision could provide the subject of an investigation with substantial information about the nature of that investigation, which could interfere with the investigation. Moreover, providing such information to the subject of an investigation could seriously impede or compromise an undercover investigation by revealing its existence and could endanger the physical safety of confidential sources, witnesses, and investigators by revealing their identities.

(6) 5 U.S.C. 552a(e)(4)(I). The application of this section could disclose investigative techniques and procedures and cause sources to refrain from giving such information because of fear of reprisal, or fear of breach of promise(s) of anonymity and confidentiality. This could compromise Reclamation's ability to conduct investigations and to identify, detect and apprehend violators.

(7) 5 U.S.C. 552a(e)(5). This section requires an agency to maintain its records with such accuracy, relevance, timeliness, and completeness as is reasonably necessary to assure fairness to the individual in making any determination about the individual. In collecting information for criminal law enforcement purposes, it is not possible to determine in advance what information is accurate, relevant, timely, and complete. Material that may seem unrelated, irrelevant, or incomplete when collected may take on added meaning or significance as the investigation progresses. The restrictions of this provision could interfere with the preparation of a complete investigative report, thereby impeding effective law enforcement.

(8) 5 U.S.C. 552a(e)(8). This section requires an agency to make reasonable efforts to serve notice on an individual when any record on the individual is made available to any person under compulsory legal process when that process becomes a matter of public record. Complying with this provision could prematurely reveal an ongoing criminal investigation to the subject of the investigation.

[FR Doc. E8-24836 Filed 10-17-08; 8:45 am]

BILLING CODE 4310-MN-P